DEPARTMENT OF VETERANS AFFAIRS

38 CFR Part 12

Technical Amendment for Information Collection Regarding Designee for Patient Personal Property

AGENCY: Department of Veterans Affairs.

ACTION: Final rule.

SUMMARY: This final rule will add the Office of Management and Budget approval number for the new collection of information in the Department of Veterans Affairs (VA) regulation that governs a competent veteran's designation of a person to receive the veteran's funds and personal effects in the event that such veteran was to die while in a VA field facility.

DATES: This final rule is effective December 15, 2014.

FOR FURTHER INFORMATION CONTACT: Kristin J. Cunningham, Director, Business Policy, Chief Business Office (10NB6), Veterans Health Administration, Department of Veterans Affairs, 810 Vermont Avenue NW., Washington, DC 20420, (202) 382-2508. This is not a toll free number.

SUPPLEMENTARY INFORMATION: In a document published in the Federal Register at 79 FR 68127 (November 14, 2014), VA amended its regulation concerning the disposition of a veteran's funds and effects. The Paperwork Reduction Act of 1995 (44 U.S.C. 3507) requires that VA consider the impact of paperwork and other information collection burdens imposed on the public. Under 44 U.S.C. 3507(a), an agency may not collect or sponsor the collection of information, nor may it impose an information collection requirement unless it displays a currently valid Office of Management and Budget (OMB) control number. See also 5 CFR 1320.8(b)(3)(vi). The rulemaking imposed a new information collection requirement in 38 CFR 12.1. If a veteran dies in a VA field facility, any funds or personal effects belonging to the veteran must be turned over to a person designated by the veteran. VA requests and encourages a veteran to name a person as a designee in order to facilitate the process of disposition of the veteran's funds and effects. VA also allows the veteran the opportunity to change or revoke such designee at any time. The information obtained through this collection eliminates some of the burden on the deceased veteran's survivors in the event of the veteran's death in a VA field facility.

Under 44 U.S.C. 3507(a), an agency may not collect or sponsor the collection of information, nor may it impose an information collection requirement unless it displays a currently valid Office of Management and Budget (OMB) control number. See also 5 CFR 1320.8(b)(3)(vi). As required by 44 U.S.C. 3507(d), VA submitted this information collection to OMB for its review. Therefore, in the final rule, we included language in § 12.1 indicating the information collection was pending Office of Management and Budget approval. OMB subsequently approved this new information collection on November 24, 2014, and assigned OMB control number 2900-0817. This final rule updates § 12.1 by adding the approved OMB control number.

List of Subjects in 38 CFR Part 12

Estates, Veterans.

For the reasons set out in the preamble, the Department of Veterans Affairs further amends 38 CFR part 12, as amended on November 14, 2014 (79 FR 68127), effective December 15, 2014, as follows:

PART 12—DISPOSITION OF VETERAN'S PERSONAL FUNDS AND EFFECTS

1. The authority citation for part 12 continues to read as follows:

Authority: 38 U.S.C. 501, 8501-8528.

§ 12.1 [Amended]

2. Amend § 12.1 by removing “(The information collection is pending Office of Management and Budget approval.)” and adding in its place “(The Office of Management and Budget has approved the information collection requirement in this section under control number 2900-0817.)”

Dated: November 26, 2014.
William F. Russo,
Acting Director, Office of Regulation Policy & Management, Office of the General Counsel, Department of Veterans Affairs.

[FR Doc. 2014-28377 Filed 12-1-14; 8:45 am]

BILLING CODE 8320-01-P